DEPARTMENT OF COMMERCE

International Trade Administration

[A-570-863]

Honey from the People's Republic of China: Extension of Time Limit for Preliminary Results of New Shipper Antidumping Duty Review

AGENCY: Import Administration, International Trade Administration, Department of Commerce.

ACTION: Notice of Extension of Time Limit for Preliminary Results of New Shipper Antidumping Duty Review.

EFFECTIVE DATE: July 21, 2003.

FOR FURTHER INFORMATION CONTACT: Brandon Farlander or Abdelali Elouaradia at (202) 482-0182 or (202) 482-1374, respectively; Antidumping and Countervailing Duty Enforcement Group III, Import Administration, International Trade Administration, U.S. Department of Commerce, 14th Street and Constitution Avenue, N.W., Washington, D.C. 20230.

SUPPLEMENTARY INFORMATION:

Background

The Department received timely requests from Shanghai Xiuwei International Trading Co., Ltd. (Shanghai Xiuwei) and Sichuan-Dujiangyan Dubao Bee Industrial Co., Ltd. (Sichuan Dubao), in accordance with 19 CFR 351.214(c), for new shipper reviews of the antidumping duty order on honey from the People's Republic of China (PRC), which has a December annual anniversary month and a June semiannual anniversary month. On January 30, 2003, the Department found that the request for review met all the regulatory requirements set forth in section 351.214(b) of the Department's regulations and initiated this new shipper antidumping review covering the period February 10, 2001, through November 30, 2002. See Honey from the People's Republic of China: Initiation of New Shipper Antidumping Reviews, 68 FR 5868 (February 5, 2003). The preliminary results are currently due no later than July 29, 2003.

Extension of Time Limits for Preliminary Results

Section 751(a)(2)(B)(iv) of the Act and section 351.214(i)(1) of the regulations require the Department to issue the preliminary results of a new shipper review within 180 days after the date on which the new shipper review was initiated, and final results of review within 90 days after the date on which the preliminary results were issued. The Department may, however, extend the deadline for completion of the preliminary results of a new shipper review to 300 days if it determines that the case is extraordinarily complicated. The Department has determined that this case is extraordinarily complicated, and the preliminary results of this new shipper review cannot be completed within the statutory time limit of 180 days. Specifically, the Department needs additional time to research the appropriate surrogate values used to value raw honey. Moreover, the Department is also researching whether the sales that form the basis of the review request are bona fide sales. In this regard, the Department has issued supplemental questionnaires requesting additional information about the bona fides of the sales under review. Given the issues in this case, the Department finds that this case is extraordinarily complicated, and cannot be completed within the statutory time limit.

Accordingly, the Department is fully extending the time limit for the completion of the preliminary results by 300 days, to November 26, 2003, in accordance with section 751(a)(2)(B)(iv) of the Act and 351.214(i)(2) of the Department's regulations. The final results will in turn be due 90 days after the date of issuance of the preliminary results, unless extended.

Dated: July 14, 2003.
Barbara E. Tillman,
Acting Deputy Assistant Secretary for Import Administration, Group III.

[FR Doc. 03-18470 Filed 7-18-03; 8:45 am]

BILLING CODE 3510-DS-S